DEPARTMENT OF ENERGY

Federal Energy Regulatory Commission

[Project No. 14805-000]

Island Hydroelectric Project; Notice of Preliminary Permit Application Accepted for Filing and Soliciting Comments, Motions To Intervene, and Competing Applications

On November 14, 2016, Island in the Sky Hydro, LLC, filed an application for a preliminary permit, pursuant to section 4(f) of the Federal Power Act (FPA), proposing to study the feasibility of the Island Hydroelectric Project (Island Project) to be located on the Blackstone River, in Central Falls, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of: (1) The existing 10-foot-high, 156-foot-long stone block dam with provisions for 12-inch-high flashboards; (2) an existing 26-acre impoundment with a storage capacity of 120-acre-feet and a normal maximum water surface elevation of 34.9 feet (National Geodetic Vertical Datum of 1929); (3) an existing trashrack and 14- to 40-foot-wide, 70-foot-long forebay; (4) an existing concrete and steel, 40-foot-wide, 70-foot-long powerhouse containing one turbine-generator unit with an installed capacity of 700 kilowatts; (5) a proposed 300-foot-long, 15-kilovolt transmission line connecting the powerhouse to the National Grid distribution system; and (6) appurtenant facilities. The estimated annual generation of the Island Project would be about 4,360 megawatt-hours. The existing dam and appurtenant works are owned by the State of Rhode Island.

Applicant Contact: Mr. Ronald L. Johnson, Island in the Sky Hydro, LLC, PO Box 193, Thorndike, MA 01079; phone: (413) 883-7468.

FERC Contact: Patrick Crile; phone: (202) 502-8042 or email: Patrick.Crile@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14805-000.

More information about this project, including a copy of the application, can be viewed or printed on the “eLibrary” link of Commission's Web site at http://www.ferc.gov/docs-filing/elibrary.asp. Enter the docket number (P-14805) in the docket number field to access the document. For assistance, contact FERC Online Support.

Dated: December 16, 2016.
Kimberly D. Bose,
Secretary.

[FR Doc. 2016-30852 Filed 12-21-16; 8:45 am]

BILLING CODE 6717-01-P